FEDERAL COMMUNICATIONS COMMISSION

47 CFR Parts 1 and 20

[CC Docket No. 99-301; FCC 00-114]

Local Competition and Broadband Reporting; Correction

AGENCY: Federal Communications Commission.

ACTION: Final rule; correction.

SUMMARY: The Federal Communications Commission published in the Federal Register of April 12, 2000 (65 FR 19675) final rules in 47 CFR 1, Subpart U, concerning data collection. As such, the document, as published, inadvertently assigned portions of the final rules to subpart U that already exists. The purpose of this correction is to reassign the rules to a new subpart V.

DATES: Effective April 27, 2000.

FOR FURTHER INFORMATION CONTACT: Gregory Guice, Industry Analysis Division, Common Carrier Bureau at (202) 418-0095.

SUPPLEMENTARY INFORMATION: The Federal Communications Commission published a report and order and final rules in the Federal Register of April 12, 2000 (65 FR 19675). As published, the final rules, § 1.6000 through § 1.6002 inadvertently assigned the final rules to an existing subpart. This correction redesignates the subpart U as subpart V. We further make conforming edits to § 20.15.

In rule FR Doc. 00-9187 published on April 12, 2000 (65 FR 19675), make the following corrections:

1. On page 19684, in the third column, amendatory instruction 2 of Part 1—Practice and Procedures, “subpart U” is corrected to read “subpart V.”

2. On the same page, in the same column, the subpart heading, “subpart U” is corrected to read “subpart V”.

3. On the same page, in the same column, the table of contents is corrected to read as follows:

Sec.
1.7000 Purpose.
1.7001 Scope and content of filed reports.
1.7002 Frequency of reports.

4. On the same page, in the same column, the section heading “§ 1.6000 Purpose.” is corrected to read “§ 1.7000 Purpose.”

5. On the same page, in the same column, the section heading “§ 1.6001 Scope and content of filed reports.” is corrected to read “§ 1.7001 Scope and content of filed reports.”

6. On page 19685, in the second column, the section heading, “§ 1.6002 Frequency of reports.” is corrected to read “§ 1.7002 Frequency of reports.”

7. On the same page, in the same column, in § 1.6002, lines 2, 11, and 16, “§ 1.6001” is corrected to read “§ 1.7001.”

8. On page 19685, in the second column, in paragraph (b)(1) of § 20.15:

a. In line 8, “§ 1.6001(a)” is corrected to read “§ 1.7001(a)”;

b. In line 10, “§ 1.6000” is corrected to read “§ 1.7000”; and

c. In line 12, “§§ 1.6001(b)” is corrected to read “§§ 1.7001(b).”

Federal Communications Commission.
Shirley S. Suggs,
Chief, Publications Group Manager.

[FR Doc. 00-10492 Filed 4-26-00; 8:45 am]

BILLING CODE 6712-01-P